NUCLEAR REGULATORY COMMISSION

[Docket No. 50-341-LR]; [ASLBP No. 16-951-01-LR-BD01]

DTE Electric Company; Establishment of Atomic Safety and Licensing Board

Pursuant to delegation by the Commission, see 37 FR 28,710 (Dec. 29, 1972), and the Commission's regulations, see, e.g., 10 CFR 2.104, 2.105, 2.309, 2.313, 2.318, and 2.321, notice is hereby given that an Atomic Safety and Licensing Board (Board) is being established to preside over the following proceeding:

DTE Electric Company (Fermi Nuclear Power Plant, Unit 2)

This proceeding—which was previously terminated by a Board on September 11, 2015, see LBP-15-25, 82 NRC 161 (2015)—involves an application by DTE Electric Company to renew for twenty years its operating license for Fermi Nuclear Power Plant, Unit 2, located near Frenchtown Township, Michigan. On November 21, 2016, Citizen's Resistance at Fermi 2 filed a motion to reopen the record and admit a new contention.

The Board is comprised of the following Administrative Judges:

Ronald M. Spritzer, Chairman, Atomic Safety and Licensing Board Panel, U.S. Nuclear Regulatory Commission, Washington, DC 20555-0001

Dr. Gary S. Arnold, Atomic Safety and Licensing Board Panel, U.S. Nuclear Regulatory Commission, Washington, DC 20555-0001

Dr. Sue H. Abreu, Atomic Safety and Licensing Board Panel, U.S. Nuclear Regulatory Commission, Washington, DC 20555-0001

All correspondence, documents, and other material shall be filed in accordance with the NRC E-Filing rule. See 10 CFR 2.302.

Rockville, Maryland.
Dated: December 7, 2016.
E. Roy Hawkens,
Chief Administrative Judge, Atomic Safety and Licensing Board Panel.

[FR Doc. 2016-29881 Filed 12-13-16; 8:45 am]

BILLING CODE 7590-01-P